DEPARTMENT OF COMMERCE

Submission for OMB Review; Comment Request

DOC has submitted to the Office of Management and Budget (OMB) for clearance the following proposal for collection of information under the provisions of the Paperwork Reduction Act (44 U.S.C. Chapter 35).

Agency: Bureau of Economic Analysis.

Title: Annual Survey of Royalties, License Fees, and Other Receipts and Payments for Intangible Rights Between U.S. and Unaffiliated Foreign Persons.

Form Number(s): BE-93.

Agency Approval Number: 0608-0017.

Type of Request: Extension of a currently approved collection without any change in the substance or in method of collection.

Burden: 2,520 hours.

Number of Respondents: 630.

Avg Hours Per Response: 4.

Needs and Uses: The Government requires data from the BE-93, Annual Survey of Royalties, License Fees, and Other Receipts and Payments for Intangible Rights Between U.S. and Unaffiliated Foreign Persons, to obtain accurate and up-to-date information on transactions in intangible rights between U.S. and unaffiliated foreign persons. It will use the data collected in monitoring U.S. exports and imports of intangible rights, analyzing their impact on the U.S. and foreign economies, supporting U.S. international commercial policy on such services, compiling the international transactions, national income and product, and input-output accounts of the United States, assessing U.S. competitiveness in international trade in services, and improving the ability of U.S. businesses to identify and evaluate market opportunities.

Affected Public: U.S. businesses or other for-profit institutions that transact with unaffiliated foreign persons in intangible rights.

Frequency: Annual.

Respondent's Obligation: Mandatory.

Legal Authority: Title 22 U.S.C., sections 3101-3108, as amended.

OMB Desk Officer: Paul Bugg, (202) 395-3093.

You may obtain copies of the above information collection proposal by calling or writing Departmental Paperwork Clearance Officer, Diana Hynek, (202) 482-0266, Department of Commerce, Room 6608, 14th and Constitution Avenue, NW., Washington, DC 20230 or by e-mail to dhynek@doc.gov.

Send comments on the proposed information collection within 30 days of publication of this notice to Paul Bugg, OMB Desk Officer, via e-mail at pbugg@omb.eop.gov or by fax at (202) 395-7245.

Dated: October 21, 2003.
Madeleine Clayton,
Management Analyst, Office of the Chief Information Officer.

[FR Doc. 03-26878 Filed 10-23-03; 8:45 am]

BILLING CODE 3510-06-P